DEPARTMENT OF COMMERCE

National Oceanic and Atmospheric Administration

[I.D. 092402B ]

Endangered and Threatened Species; Take of Anadromous Fish

AGENCY: National Marine Fisheries Service (NMFS), National Oceanic and Atmospheric Administration (NOAA), Commerce.

ACTION: Reopening of comment period; Notice of Availability and request for comments.

SUMMARY: Notice is hereby given that NMFS is reopening the comment period for a proposed evaluation and pending determination of the Secretary of Commerce (Secretary) as to how a Resource Management Plan (RMP) addresses Endangered Species Act (ESA) criteria. The RMP was submitted jointly by the Makah Indian Tribe and the Washington Department of Fish and Wildlife as the co-managing fisheries resource manager, pursuant to the ESA protective regulations promulgated for the Ozette Lake Sockeye Salmon Evolutionary Significant Unit (ESU). NMFS also is reopening the public comment period for a draft Environmental Assessment (EA) of the pending determination. The comment period is being reopened in response to requests for additional review time by the public. This document serves to notify the public of the extended availability of the proposed evaluation and draft EA for review and comment before NMFS makes its final National Environmental Policy Act (NEPA) and RMP determinations.

DATES: Written comments on the Secretary's proposed evaluation and draft EA must be received at the appropriate address or fax number (see ADDRESSES) no later than 5 p.m. Pacific Standard Time on October 21, 2002.

ADDRESSES: Written comments and requests for copies of the proposed evaluation and draft environmental assessment should be addressed to Tim Tynan, Sustainable Fisheries Division, National Marine Fisheries Service, 510 Desmond Drive, Suite 103, Olympia, WA 98503. Comments may also be sent via fax to 360/753-9517. The documents are also available on the Internet at http://www.nwr.noaa.gov/, Sustainable Fisheries Division site. Comments will not be accepted if submitted via e-mail or the Internet.

FOR FURTHER INFORMATION CONTACT: Tim Tynan at phone number: 360/753-9579, or e-mail: Tim.Tynan@noaa.gov regarding the RMP.

SUPPLEMENTARY INFORMATION: This notice is relevant to the Ozette Lake Sockeye Salmon (Oncorhynchus nerka) ESU.

Background

The Makah Indian Tribe, and the Washington Department of Fish and Wildlife as the co-managing resource management agency under the United States v. Washington fisheries management framework, have provided a joint RMP in the form of a Hatchery and Genetic Management Plan (HGMP) for Ozette Lake sockeye salmon. The RMP encompasses artificial propagation, research, and monitoring and evaluation activities within the range of the Ozette Lake sockeye salmon ESU. The range of the ESU is the Ozette River, Ozette Lake, and Ozette Lake tributaries accessible to anadromous salmon. Performance objectives specified in the RMP include establishment of self-sustaining, tributary-spawning sockeye aggregations to increase natural spawning fish abundance levels in the Ozette Lake Basin. The RMP also includes research, monitoring, and evaluation actions designed to identify life history characteristics of the listed beach spawning sockeye salmon population, and factors limiting the productivity of the listed sockeye salmon ESU. Monitoring and evaluation programs are also used to ensure that the proposed artificial propagation measures are consistent with listed sockeye salmon conservation objectives.

As required by section 223.203 (b)(6) of the ESA 4(d) rule, the Secretary must determine whether the RMP for Ozette Lake sockeye salmon would appreciably reduce the likelihood of survival and recovery of the Ozette Lake sockeye salmon and other affected threatened ESUs, pursuant to government-to-government processes described in 50 CFR 223.203. The Secretary must take comments on how the RMP addresses the criteria in 223.203(b)(5) in making that determination. NMFS will not complete the final NEPA and RMP determinations until after the end of the extended comment period, and NMFS will fully consider all public comments received during the comment period. NMFS will publish a record of its final action in the Federal Register.

Authority

Under section 4 of the ESA, NMFS, by delegated authority from the Secretary of Commerce, is required to adopt such regulations deemed necessary and advisable for the conservation of the species listed as threatened. The ESA salmon and steelhead 4(d) Rule (65 FR 42422, July 10, 2000) specifies categories of activities that contribute to the conservation of listed salmonids and sets out the criteria for such activities. The rule further provides that the prohibitions of paragraph (a) of the rule do not apply to actions undertaken in compliance with an RMP developed jointly by the Tribes and the State of Washington (joint plan) and determined by the Secretary to be in accordance with the salmon and steelhead 4(d) rule (65 FR 42422, July 10, 2000).

Dated: October 1, 2002.
Chris Mobley,
Acting Chief, Endangered Species Division, Office of Protected Resources, National Marine Fisheries Service.

[FR Doc. 02-25333 Filed 10-3-02; 8:45 am]

BILLING CODE 3510-22-S